NUCLEAR REGULATORY COMMISSION 2002

Nuclear Safety Research Conference

AGENCY: Nuclear Regulatory Commission.

ACTION: Notice of meeting.

SUMMARY: The 2002 Nuclear Safety Research Conference (NSRC), formerly known as the Water Reactor Safety Meeting, will be held October 28-30, 2002, from 8:30 a.m. to 5 p.m. at the Marriott Hotel at Metro Center, 775 12th Street, NW., Washington, DC.

The NSRC is an international conference focused on regulatory issues, and it attracts researchers, regulators, and utility representatives from the United States and more than twenty other countries. The NSRC continues to be a leading forum in which participants interact with the Nuclear Regulatory Commission (NRC) staff and colleagues and obtain research results and insights from research programs performed in support of the mission of the NRC.

Ashok C. Thadani, Director of the Office of Nuclear Regulatory Research, will open the conference on Monday, October 28, 2002, at 8:30 a.m., and NRC Executive Director for Operations, William D. Travers, will follow as the keynote speaker.

An expert panel on advanced reactors will discuss the regulatory research needed to support the licensing of advanced reactor designs and focus on the kind of research needed to resolve technical and policy issues. Panel members will include NRC Commissioner Jeffrey S. Merrifield, Salomon Levy (Levy & Associates), Eugene Grecheck (Dominion Energy, Inc.), Andrew Kadak (Massachusetts Institute of Technology), F. Peter Ford (NRC's Advisory Committee on Reactor Safeguards), and Tom Miller (U.S. Department of Energy).

Technical sessions on advanced reactors and the degradation of reactor coolant boundary materials will be held in the afternoon.

On Tuesday, October 29, 2002, NRC Chairman, Richard A. Meserve, will be the guest speaker at 8:30 a.m.; he will be followed by the first of two fuels sessions. An expert panel on formal decision methods and nuclear safety research will discuss research activities for developing the technical basis and enhancing the transparency and objectivity of decisionmaking in the regulatory environment. Panel members include James W. Johnson (NRC), Martin Virgilio (NRC), Theodore Marston (Electric Power Research Institute), Brian Sheron (NRC), and Robert Youngblood (ISL).

Technical sessions on dry cask storage and transportation of spent nuclear fuels as well as fuels research will be held in the afternoon.

On Wednesday, October 30, 2002, NRC Commissioner Greta J. Dicus will be the quest speaker at 8:30 a.m. An expert panel on risk-informed initiatives will communicate recent improvements in how NRC uses risk information in regulatory decisionmaking and how work in the NRC's Office of Nuclear Regulatory Research supports such uses. Panel members include George Apostolakis (Massachusetts Institute of Technology), Jukka Laaksonen (Finnish Radiation and Nuclear Safety Authority (STUK)), Stephen Floyd (Nuclear Energy Institute), David Lochbaum (Union of Concerned Scientists), and Luis Reyes (NRC).

Technical sessions on control of slightly contaminated materials and on probabilistic risk assessment will be held for the remainder of the day.

This conference includes presentations by personnel from the U.S. Government, national laboratories, private contractors, universities, reactor vendors, and a number of foreign organizations.

Those who wish to attend are encouraged to register in advance on the NSRC website (http://www.bnl.gov/NSRC) or by contacting Susan Monteleone, Brookhaven National Laboratory, Department of Nuclear Energy, Building 130, Upton, NY 11973, telephone (631) 344-7235; or Sandra Nesmith (301) 415-6437, Office of Nuclear Regulatory Research, U.S. Nuclear Regulatory Commission, Washington, DC 20555.

Dated at Rockville, Maryland, this 2nd day of October, 2002.
For the Nuclear Regulatory Commission.
Karen M. Fitch,
Deputy Director, Program Management, Policy Development & Analysis Staff, Office of Nuclear Regulatory Research.

[FR Doc. 02-26166 Filed 10-11-02; 8:45 am]

BILLING CODE 7590-01-P